DEPARTMENT OF VETERANS AFFAIRS

[OMB Control No. 2900-0786]

Agency Information Collection Activity Under OMB Review: Vocational Rehabilitation and Employment (VR&E) Longitudinal Study Survey

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before September 5, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0786” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0786” in any correspondence.

SUPPLEMENTARY INFORMATION:

Authority: Public Law 110-389, Sec. 334.

Title: Vocational Rehabilitation and Employment (VR&E) Longitudinal Study Survey.

OMB Control Number: 2900-0786.

Type of Review: Extension without change of a currently approved collection.

Abstract: As part of Public Law 110-389, Vocational Rehabilitation & Employment (VR&E) VetSuccess Program is conducting a Longitudinal Study of veterans participating in VR&E. This study will take place over the next 20 years. An agency may not conduct or sponsor, and a person is not required to respond to a collection of information unless it displays a currently valid OMB control number. The Federal Register Notice with a 60-day comment period soliciting comments on this collection of information was published at 82 FR 2017-11301 on June 1, 2017, page 25500.

Affected Public: Individuals or Households.

Estimated Annual Burden: 2,333.

Estimated Average Burden per Respondent: 20 minutes.

Frequency of Response: Annually over the course of 20 years.

Estimated Number of Respondents: 7,000.

By direction of the Secretary.
Cynthia Harvey-Pryor,
Department Clearance Officer, Enterprise Records Service, Office of Quality and Compliance, Department of Veterans Affairs.

[FR Doc. 2017-16407 Filed 8-3-17; 8:45 am]

BILLING CODE 8320-01-P